DEPARTMENT OF DEFENSE

Office of the Secretary

[Transmittal No. 22-0R]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0R.

Dated: August 1, 2024.
Aaron T. Siegel,
Alternate OSD Federal Register Liaison Officer, Department of Defense.

BILLING CODE 6001-FR-P

BILLING CODE 6001-FR-C

Transmittal No. 22-0R

REPORT OF ENHANCEMENT OR UPGRADE OF SENSITIVITY OF TECHNOLOGY OR CAPABILITY (SEC. 36(B)(5)(C), AECA)

(i) Purchaser: Republic of Poland

(ii) Sec. 36(b)(1), AECA Transmittal No.: 19-07

Date: November 29, 2018

Military Department: Army

Funding Source: National Funds

(iii) Description: On November 29, 2018, Congress was notified by Congressional certification transmittal number 19-07, of the possible sale, under Section 36(b)(1) of the Arms Export Control Act, of twenty (20) High Mobility Artillery Rocket System (HIMARS) M142 Launchers, thirty-six (36) Guided Multiple Launch Rocket System (GMLRS) M31 Unitary, nine (9) Guided Multiple Launch Rocket System (GMLRS) M30A1 Alternative Warheads, thirty (30) Army Tactical Missile System (ATACMS) M57 Unitary, twenty-four (24) Advanced Field Artillery Tactical Data Systems (AFATDS), twenty (20) Multiple Launcher Pod Assembly M68A2 Trainers, twenty-four (24) M1151A1 High Mobility Multi-purpose Wheeled Vehicles (HMMWVs), and nine (9) M1151A1 High Mobility Multi-purpose Wheel Vehicles (HMMWVs). Also included were twenty (20) Low Cost Reduced Range (LCRR) practice rockets, support equipment, communications equipment, spare and repair parts, test sets, batteries, laptop computers, publications and technical data, facility design, personnel training and equipment, systems integration support, Quality Assurance Teams and a Technical Assistance Fielding Team, United States Government and contractor engineering and logistics personnel services, and other related elements of logistics support, training, sensors, and other related elements of logistics and program support. The estimated total cost was $655 million. Major Defense Equipment (MDE) constituted $335 million of this total.

On September 19, 2019, Congress was notified by Congressional certification transmittal number 0R-19, of the inclusion of four (4) AFATDS as additional MDE. The estimated total MDE and support equipment cost remained the same. The total estimated cost remained $655 million.

This transmittal notifies the inclusion of an additional ninety-eight (98) ATACMS M57 Unitary, which are MDE. The estimated value of the additional items is $175 million. The total estimated MDE value will increase by $175 million to $510 million, resulting in an estimated total case value of $830 million.

(iv) Significance: The proposed sale will improve Poland's interoperability with the United States and NATO by increasing the land forces' contingency stock of munitions and allowing for the increased capability to respond to threats. These factors will contribute significantly to Poland's ability to defend itself and address a legitimate need for Poland's military.

(v) Justification: This proposed sale will support the foreign policy and national security of the United States by improving the security of a NATO ally and partner nation which is an important force for peace, political stability, and economic progress in Eastern Europe.

(vi) Sensitivity of Technology: The Sensitivity of Technology Statement contained in the original notification applies to items reported here.

(vii) Date Report Delivered to Congress: September 29, 2022

[FR Doc. 2024-17366 Filed 8-5-24; 8:45 am]

BILLING CODE 6001-FR-P